DEPARTMENT OF THE INTERIOR

National Park Service

[NPS-WASO-NAGPRA-NPS0035385; PPWOCRADN0-PCU00RP14.R50000]

Notice of Inventory Completion Amendment: New Mexico State University Museum, Las Cruces, NM; U.S. Department of the Interior, Bureau of Land Management, New Mexico State Office, Las Cruces, NM; and U.S. Department of Agriculture, Forest Service, Gila National Forest, Silver City, NM, and Apache Sitgreaves National Forest, Springerville, AZ

AGENCY: National Park Service, Interior.

ACTION: Notice; amendment.

SUMMARY: In accordance with the Native American Graves Protection and Repatriation Act (NAGPRA), the New Mexico State University Museum; U.S. Department of the Interior, Bureau of Land Management, New Mexico State Office; and the U.S. Department of Agriculture, Forest Service, Gila National Forest and Apache Sitgreaves National Forest have amended a Notice of Inventory Completion published in the Federal Register on January 12, 2023. This notice amends the cultural affiliation of a collection removed from Apache County AZ, Doña Ana County, NM, Grant County, NM, Lincoln County, NM, Luna County, NM, Otero County, NM, Sierra County, NM and, in certain instances, from locations unknown.

DATES: Repatriation of the human remains and associated funerary objects in this notice may occur on or after March 27, 2023.

ADDRESSES: Dr. Fumi Arakawa, New Mexico State University Museum Director's Office, 1525 Stewart, Room 331, P.O. Box 30001, MSC:3BV, Las Cruces, NM 88003-8001, email farakawa@nmsu.edu.

SUPPLEMENTARY INFORMATION: This notice is published as part of the National Park Service's administrative responsibilities under NAGPRA. The determinations in this notice are the sole responsibility of the New Mexico State University Museum (University Museum); U.S. Department of the Interior, Bureau of Land Management, New Mexico State Office (BLM); and the U.S. Department of Agriculture, Forest Service, Gila National Forest, Silver City, NM (Gila NF), and Apache Sitgreaves National Forest, Springerville, AZ (Apache Sitgreaves NF). The National Park Service is not responsible for the determinations in this notice. Additional information on the amendments and determinations in this notice, including the results of consultation, can be found in the inventory or related records held by the University Museum.

Amendment

This notice amends the determinations published in a Notice of Inventory Completion in the Federal Register (88 FR 2129-2132, January 12, 2023). Repatriation of the items in the original Notice of Inventory Completion has not occurred. This amendment adds to the list of culturally affiliated Indian Tribes. Some of the culturally affiliated Indian Tribes were inadvertently omitted from the published notice.

Determinations (as Amended)

Pursuant to NAGPRA and its implementing regulations, and after consultation with the appropriate Indian Tribes and Native Hawaiian organizations, the New Mexico State University Museum, Bureau of Land Management, Apache Sitgreaves National Forest, and Gila National Forest has determined that:

• The human remains represent the physical remains of 288 individuals of Native American ancestry.

• The 1,079 objects are reasonably believed to have been placed with or near individual human remains at the time of death or later as part of the death rite or ceremony.

• There is a relationship of shared group identity that can be reasonably traced between the human remains and associated funerary objects and the Comanche Nation, Oklahoma; Hopi Tribe of Arizona; Mescalero Apache Tribe of the Mescalero Reservation, New Mexico; Navajo Nation, Arizona, New Mexico, & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; White Mountain Apache Tribe of the Fort Apache Reservation, Arizona; Ysleta del Sur Pueblo; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2023. If competing requests for repatriation are received, the University Museum; BLM; Gila NF or Apache Sitgreaves NF must determine the most appropriate requestor prior to repatriation. Requests for joint repatriation of the human remains and associated funerary objects are considered a single request and not competing requests. The University Museum is responsible for sending a copy of this notice to the Indian Tribes and Native Hawaiian organizations identified in this notice.

Authority: Native American Graves Protection and Repatriation Act, 25 U.S.C. 3003, and the implementing regulations, 43 CFR 10.9, § 10.10, § 10.13, and § 10.14.

Dated: February 15, 2023.
Melanie O'Brien,
Manager, National NAGPRA Program.

[FR Doc. 2023-03815 Filed 2-23-23; 8:45 am]

BILLING CODE 4312-52-P